CIVIL RIGHTS COLD CASE RECORDS REVIEW BOARD

[Agency Docket Number: CRCCRRB-2025-0002-N]

Notice of Formal Determination on Records Release

AGENCY: Civil Rights Cold Case Records Review Board.

ACTION: Notice.

SUMMARY: The Civil Rights Cold Case Records Review Board received 404 pages of records from the National Archives and Records Administration (NARA) and the Federal Bureau of Investigation (FBI) related to seven civil rights cold case incidents. NARA and the FBI did not propose any postponements of disclosure. On October 11, 2024, the Review Board determined that the records should be publicly disclosed in the Civil Rights Cold Case Records Collection. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Agency | Number of pages
2023-002-010 | NARA | 60
2023-002-010 | FBI | 1
2024-003-007 | NARA | 3
2024-003-021 | NARA | 174
2024-003-026 | NARA | 23
2024-003-045 | NARA | 34
2024-003-048 | NARA | 3
2024-003-049 | NARA | 106

Authority: Public Law 115-426, 132 Stat. 5489 (44 U.S.C. 2107)

Dated: October 17, 2024.
Stephannie Oriabure,
Chief of Staff.

[FR Doc. 2024-24636 Filed 10-23-24; 8:45 am]

BILLING CODE 6820-SY-P